ENVIRONMENTAL PROTECTION AGENCY

[OPPT-2002-0042; FRL-6819-1]

Final National Action Plan for Alkyl-lead; Notice of Availability

AGENCY: Environmental Protection Agency (EPA).

ACTION: Notice.

SUMMARY: On August 25, 2000, EPA issued a proposed National Action Plan on alkyl-lead for public review and comment. This Plan is intended to promote further voluntary reductions of use and exposure to alkyl-lead compounds. Alkyl-lead is used as a fuel additive to reduce “knock” in certain combustion engines. These compounds also help lubricate internal engine components and protect intake and exhaust valves against recession. Currently, the largest uses of alkyl-lead compounds are in aviation gasoline for general aviation (piston-engine) aircraft, and racing gasoline. Six comments were submitted to the Agency concerning this plan. The Agency has reviewed these comments and has revised the Plan accordingly. This Notice announces the finalization and availability of the Alkyl-lead National Action Plan. This plan was developed pursuant to the Agency's Multimedia Strategy for Priority Persistent, Bioaccumulative, and Toxic (PBT) Pollutants.

FOR FURTHER INFORMATION CONTACT: For general information contact: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

For technical information contact: Paul Matthai, Pollution Prevention Division, Mail Code 7409M, Office of Pollution Prevention and Toxics, Environmental Protection Agency, 1200 Pennsylvania Ave., NW., Washington, DC 20460; telephone number: (202) 564-8839; e-mail address: matthai.paul@epa.gov.

SUPPLEMENTARY INFORMATION:

I. General Information

A. Does this Action Apply to Me?

This action is directed to the public in general. This action may, however, be of interest to persons who make, distribute, or use racing and aviation gasoline. Since other entities may also be interested, the Agency has not attempted to describe all the specific entities that may be affected by this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/pbt. To access this document, on the PBT Home Page select “Strategy and Action Plans.”

2. In person. The Agency has established an official record for this action under docket control number OPPT-2002-0042. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 1200 Pennsylvania Ave., NW., Washington, DC. The Center is open from noon to 4 p.m., Monday through Friday, excluding legal holidays. The telephone number for the Center is (202) 260-7099.

II. What Action is the Agency Taking?

On November 16, 1998, EPA released its Agency-wide Multimedia Strategy for Priority Persistent, Bioaccumulative, and Toxic (PBT) Pollutants (PBT Strategy). The goal of the PBT Strategy is to identify and reduce risks to human health and the environment from current and future exposure to priority PBT pollutants. This document serves as the Final National Action Plan for alkyl-lead, one of the 12 Level 1 priority PBT pollutants identified for the initial focus of action in the PBT Strategy.

Alkyl-lead compounds are man-made compounds in which a carbon atom of one or more organic molecules is bound to a lead atom. Tetraethyllead (TEL) and tetramethyllead (TML) compounds are the most common alkyl-lead compounds that have been used in the past and are still in use today in the United States. These two alkyl-lead compounds are the focus of this National Action Plan. Alkyl-lead is used as a fuel additive to reduce “knock“ in combustion engines, help lubricate internal engine components and protect intake and exhaust valves against recession. Currently, the largest uses of alkyl-lead are in aviation gasoline for general aviation (piston-engine) aircraft, and racing gasoline. Neither of these uses are subject to any of the regulations that restrict leaded motor gasoline use.

In the human body, alkyl-lead compounds are distributed through the blood to “soft tissues” particularly the liver, kidneys, muscles, and brain. Initial symptoms of alkyl-lead poisoning include, among others: anorexia, insomnia, tremor, weakness, fatigue, nausea and vomiting, mood shifts such as aggression or depression, and impairment of memory. In the case of acute alkyl-lead poisoning, possible health effects include mania, convulsions, delirium, fever, coma, and in some cases even death.

The ultimate goal of this alkyl-lead Plan is to identify and reduce risks to human health and the environment from current and future exposure to alkyl-lead. EPA believes that, with the regulatory actions it has taken to date, this goal is within reach. However, the Agency is concerned about any sub-populations that may remain at risk, for example, individuals exposed at racetracks or general aviation airports. The Agency also recognizes that these remaining risks should not be taken lightly. EPA does not have the authority under the Clean Air Act to regulate the use of leaded gasoline for the racing industry, and the authority to regulate aircraft fuel lies with the Federal Aviation Administration. Therefore, the Agency has chosen to address the risks that remain for alkyl-lead through voluntary efforts under its PBT pollutants program. It is likely that further reductions in exposures to these chemicals will come only through product substitution and voluntary measures.

List of Subjects

Environmental protection, Alkyl-lead, PBT.

Dated: June 10, 2002.
Stephen L. Johnson,
Assistant Administrator for Prevention, Pesticides and Toxic Substances.

[FR Doc. 02-18588 Filed 7-22-02 8:45 am]

BILLING CODE 6560-50-S